DEPARTMENT OF TRANSPORTATION

Federal Aviation Administration

14 CFR Part 39

[Docket No. 2001-NE-34-AD; Amendment 39-13257; AD 2003-16-04]

RIN 2120-AA64

Airworthiness Directives; Pratt & Whitney Canada Turboprop Engines; Correction

AGENCY: Federal Aviation Administration, DOT.

ACTION: Final rule; correction.

SUMMARY: This document makes a correction to Airworthiness Directive (AD) 2003-16-04 that applies to Pratt & Whitney Canada (PWC) engine models PW118, PW118A, PW118B, PW119B, PW119C, PW120, PW120A, PW121, PW121A, PW123, PW123B, PW123C, PW123D, PW123E, PW123AF, PW124B, PW125B, PW126, PW126A, PW127, PW127B, PW127E, PW127F, PW127G, PW127H, and PW127J turboprop engines that was published in the Federal Register on August 6, 2003. Certain engine models were incorrectly included in the preamble section, under Summary and Supplementary Information, and in the regulatory section under Applicability. In addition, airplanes on which these engines are installed were incorrectly included in the regulatory section, under Applicability. This document corrects these items. In all other respects, the original document remains the same.

EFFECTIVE DATE: Effective August 6, 2003.

FOR FURTHER INFORMATION CONTACT: Ian Dargin, Aerospace Engineer, Engine Certification Office, FAA, Engine and Propeller Directorate, 12 New England Executive Park, Burlington, MA 01803-5299; telephone (781) 238-7178; fax (781) 238-7199.

SUPPLEMENTARY INFORMATION: A final rule AD, FR Doc 03-19840, that applies to Pratt & Whitney Canada (PWC) engine models PW118, PW118A, PW118B, PW119B, PW119C, PW120, PW120A, PW121, PW121A, PW123, PW123B, PW123C, PW123D, PW123E, PW123AF, PW124B, PW125B, PW126, PW126A, PW127, PW127B, PW127E, PW127F, PW127G, PW127H, and PW127J turboprop engines, was published in the Federal Register on August 6, 2003 (68 FR 46441). The following corrections are needed:

On page 46441, in the third column, in the preamble section, under SUMMARY, in the first paragraph, in the first, second, third, and fourth lines, “PW123AF, PW124B, PW125B, PW126, PW126A, PW127, PW127B, PW127E, PW127F, PW127G, PW127H, and PW127J turboprop engines” is corrected to read “ PW123AF, PW124B, PW125B, PW126A, PW127, PW127E, PW127F, and PW127G turboprop engines”.

On page 46441, in the third column, in the preamble section, under SUPPLEMENTARY INFORMATION, in the first paragraph, in the ninth, tenth, eleventh, and twelfth lines, “PW123AF, PW124B, PW125B, PW126, PW126A, PW127, PW127B, PW127E, PW127F, PW127G, PW127H, and PW127J turboprop engines” is corrected to read “ PW123AF, PW124B, PW125B, PW126A, PW127, PW127E, PW127F, and PW127G turboprop engines”.

§ 39.13 [Corrected]

On page 46442, in the third column, in the regulatory section, under Applicability, in the first paragraph, in the seventh, eighth, and ninth lines, “PW125B, PW126, PW126A, PW127, PW127B, PW127E, PW127F, PW127G, PW127H, and PW127J turboprop engines.” is corrected to read “PW125B, PW126A, PW127, PW127E, PW127F, and PW127G turboprop engines.”.

On page 46442, in the third column, in the regulatory section, under Applicability, in the first paragraph, in the sixteenth, seventeenth, and eighteenth lines, “EMB-120; Fairchild Dornier 328, Fokker 50 and 60; Ilyushin IL-114-100; BAE Systems (Operations) Ltd. ATP; and XIAN MA-60.” is corrected to read “EMB-120; Fairchild Dornier 328, Fokker 50; and BAE Sysems (Operations) Ltd. ATP.”.

Issued in Burlington, MA, on August 13, 2003.
Marc J. Bouthillier,
Acting Manager, Engine and Propeller Directorate, Aircraft Certification Service.

[FR Doc. 03-21153 Filed 8-18-03; 8:45 am]

BILLING CODE 4910-13-P